ENVIRONMENTAL PROTECTION AGENCY

40 CFR Part 52

[EPA-R03-OAR-2006-0728; FRL-8249-7]

Approval and Promulgation of Air Quality Implementation Plans; West Virginia; Emission Reductions to Meet Phase II of the Nitrogen Oxides (NOX) SIP Call; Correction

AGENCY: Environmental Protection Agency (EPA).

ACTION: Direct final rule; correcting amendment.

SUMMARY: This document corrects an error in the rule language of a final rule pertaining to EPA's direct final action to convert a conditional approval in the West Virginia State Implementation Plan (SIP) to a full approval. The SIP revision pertains to nitrogen oxides (NOX) emission reductions required in West Virginia to meet Phase II of the NOX SIP Call.

EFFECTIVE DATE: December 1, 2006.

FOR FURTHER INFORMATION CONTACT: Marilyn Powers, (215) 814-2308 or by e-mail at powers.marlyn@epa.gov.

SUPPLEMENTARY INFORMATION: Throughout this document wherever “we,” “us,” or “our” are used we mean EPA. On September 28, 2006 (71 FR 56881), we published a final rulemaking action announcing our action to approve nitrogen oxides (NOX) emission reductions required in West Virginia to meet Phase II of the NOX SIP Call. In that document, we inadvertently omitted information describing the Federal Register publication date and page citation of the approval date for West Virginia Regulation 45 CSR 1. This action adds the omitted language.

In rule document E6-15981 published in the Federal Register on September 28, 2006 (71 FR 56881), on pages 56883 (bottom) and 56884 (top), the revised rule language described in Amendatory Instruction Number 2 is corrected to add a Federal Register publication date and page citation for each revised entry in 40 CFR 52.2520(c) for West Virginia Regulation 45 CSR 1.

Section 553 of the Administrative Procedure Act, 5 U.S.C. 553(b)(B), provides that, when an agency for good cause finds that notice and public procedure are impracticable, unnecessary or contrary to the public interest, the agency may issue a rule without providing notice and an opportunity for public comment. We have determined that there is good cause for making today's rule final without prior proposal and opportunity for comment because we are merely correcting an incorrect citation in a previous action. Thus, notice and public procedure are unnecessary. We find that this constitutes good cause under 5 U.S.C. 553(b)(B).

Statutory and Executive Order Reviews

Under Executive Order (E.O.) 12866 (58 FR 51735, October 4, 1993), this action is not a “significant regulatory action” and is therefore not subject to review by the Office of Management and Budget. For this reason, this action is also not subject to Executive Order 13211, “Actions Concerning Regulations That Significantly Affect Energy Supply, Distribution, or Use” (66 FR 28355 (May 22, 2001)). Because the agency has made a “good cause” finding that this action is not subject to notice-and-comment requirements under the Administrative Procedures Act or any other statute as indicated in the SUPPLEMENTARY INFORMATION section above, it is not subject to the regulatory flexibility provisions of the Regulatory Flexibility Act (5 U.S.C 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of governments, as specified by Executive Order 13132 (64 FR 43255, August 10, 1999). This rule also is not subject to Executive Order 13045 (62 FR 19885, April 23, 1997), because it is not economically significant.

This technical correction action does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995. (44 U.S.C. 3501 et seq.)

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA had made such a good cause finding, including the reasons therefore, and established an effective date of December 1, 2006. EPA will submit a report containing this rule and other required information to the U.S. Senate, the U.S. House of Representatives, and the Comptroller General of the United States prior to publication of the rule in the Federal Register. This correction to 40 CFR § 52.2520(c) for West Virginia is not a “major rule” as defined by 5 U.S.C. 804(2).

Dated: November 21, 2006
William T. Wisniewski,
Acting Regional Administrator, Regional Administrator, Region III.

40 CFR Part 52 is amended as follows:

PART 52—[AMENDED]

1. The authority citation for 40 CFR part 52 continues to read as follows:

Authority: 42 U.S.C. 7401 et seq.

Subpart XX—West Virginia

2. In § 52.2520, the table in paragraph (c) is amended by revising entries for [45CSR] Series 1, Sections 1-5, 22, 70-72, 74, 89, 90, and 100 to read as follows:

§ 52.2520 Identification of plan.

* * * * *

(c) EPA-Approved Regulations.

EPA-Approved Regulations in the West Virginia SIP
State citation [Chapter 16-20 or 45 CSR] | Title/subject | State effective date | EPA approval date | Additional explanation/citation at 40 CFR § 52.2565
[45 CSR] Series 1 | Control and Reduction of Nitrogen Oxides From Non-Electric Generating Units As a means to Mitigate Transport of Ozone Precursors
Section 45-1-1 | General | 5/1/06 | 9/28/06, 71 FR 58661
Section 45-1-2 | Definitions | 5/1/06 | 9/28/06, 71 FR 58661
Section 45-1-3 | Acronyms | 5/1/06 | 9/28/06, 71 FR 58661
Section 45-1-4 | NOX Budget Trading Program Applicability | 5/1/06 | 9/28/06, 71 FR 58661
Section 45-1-5 | Retired Unit Exemption | 5/1/06 | 9/28/06, 71 FR 58661
* * * * * * *
Section 45-1-22 | Information Requirements for NOX Budget Permit Applications | 5/1/06 | 9/28/06, 71 FR 58661
* * * * * * *
Section 45-1-70 | General Monitoring Requirements | 5/1/06 | 9/28/06, 71 FR 58661
Section 45-1-71 | Initial Certification and Recertification Procedures | 5/1/06 | 9/28/06, 71 FR 58661
Section 45-1-72 | Out of Control Periods | 5/1/06 | 9/28/06, 71 FR 58661
* * * * * * *
Section 45-1-74 | Recordkeeping and Reporting | 5/1/06 | 9/28/06, 71 FR 58661
* * * * * * *
Section 45-1-89 | Appeal Procedures | 5/1/06 | 9/28/06, 71 FR 58661 | New Section
Section 45-1-90 | Requirements for Stationary Internal Combustion Engines | 5/1/06 | 9/28/06, 71 FR 58661 | New Section.
Section 45-1-100 | Requirements for Emissions of NOX from Cement Manufacturing Kilns | 5/1/06 | 9/28/06, 71 FR 58661
* * * * * * *

* * * * *

[FR Doc. E6-20291 Filed 11-30-06; 8:45 am]

BILLING CODE 6560-50-P